DEPARTMENT OF HEALTH AND HUMAN SERVICES

Administration for Children and Families

[OMB No.: 0970-0379]

Proposed Information Collection Activity; Comment Request

Title: Project Outcome Assessment Survey.

Description: The information collected by the Project Outcome Assessment Survey is needed for two main reasons: (1) To collect crucial information required to report on the Administration for Native Americans' (ANA) established Government Performance and Results Act (GPRA) measures, and (2) to properly abide by ANA's congressionally-mandated statute (42 United States Code 2991 et seq.) found within the Native American Programs Act of 1974, as amended, which states that ANA will evaluate projects assisted through ANA grant dollars “including evaluations that describe and measure the impact of such projects, their effectiveness in achieving stated goals, their impact on related programs, and their structure and mechanisms for delivery of services.” The information collected with this survey will fulfill ANA's statutory requirement and will also serve as an important planning and performance tool for ANA.

Respondents: Tribal Governments, Native American nonprofit organizations, and Tribal Colleges and Universities

Annual Burden Estimates
Instrument | Number of respondents | Number of responses per respondent | Average burden hours per response | Total burden hours
ANA Project Outcome Assessment Survey | 85 | 1 | 6 | 510

Estimated Total Annual Burden Hours: 510.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2019-02915 Filed 2-20-19; 8:45 am]

BILLING CODE 4184-34-P